ENVIRONMENTAL PROTECTION AGENCY

[OEI-2002-0001; FRL-7181-7]

EPA Dockets; EPA's New Electronic Public Docket and Comment System; Notice of Availability

AGENCY: Environmental Protection Agency (EPA).

ACTION: Notice.

SUMMARY: EPA is announcing the availability of a new electronic public docket and comment system designed to greatly expand access to EPA's public dockets, and facilitate the submission of public comments to EPA, providing an unprecedented level of online access to EPA's programs and rulemaking processes. Known as EPA Dockets, this online system will allow you to search the Agency's major public dockets online, view the index listing of the contents for the dockets included in the system, and access those materials that are available online. You will be able to submit your comments online when a particular public docket available in EPA Dockets is open for public comments, and you will be able to view public comments online for that docket. This new capability will be a valuable tool to support the Agency's regulatory process by enabling more efficient access to EPA's rulemaking development process, and will create a new means for the Agency to share other non-rulemaking information for comment purposes. This capability will enable Agency rulemakers and decision-makers to carry out their responsibilities more efficiently. It will greatly enhance the public's access to the materials used in EPA's decision-making process, simplify electronic commenting, and access to the public comments in those public dockets available in EPA Dockets. This document provides a brief introduction to EPA Dockets, along with an overview of EPA's policies related to the implementation of the system.

FOR FURTHER INFORMATION CONTACT: Shivani Desai, Information Strategies Branch, Collection Strategies Division (Mail Code 2822T), Office of Environmental Information (OEI), Environmental Protection Agency, 1200 Pennsylvania Ave., NW., Washington, DC 20460; telephone number: (202) 566-1674; fax number: (202) 566-1639; e-mail address: desai.shivani@epa.gov.

SUPPLEMENTARY INFORMATION:

I. Background

Electronic government is a core component of the President's Management Agenda with stated goals to: Make it easy for citizens to obtain service and interact with the federal government; improve government efficiency and effectiveness; and improve government's responsiveness to citizens. With those goals in mind, twenty-four projects with the most potential to simplify and unify agency processes and information flows, provide one-stop services to citizens and increase agency effectiveness were identified by the Office of Management and Budget (OMB) for implementation. One of those projects, On-Line Rulemaking, will create an easy-to-use, government-wide on-line portal to find and comment on proposed rules. The project will ultimately improve quality, efficiency, and consistency in the federal rulemaking processes. EPA Dockets is consistent with the approach contained in the On-Line Rulemaking project and can serve as an important building block for development. More information regarding the projects included in the President's Management Agenda for E-gov can be obtained from the federal government's E-Government Strategy on the OMB website at http://www.whitehouse.gov/omb/inforeg/egovstrategy.pdf.

There are also several statutory mandates for federal agencies to provide electronic access to agency information. For example, the Government Paperwork Elimination Act (GPEA), Public Law 105-277, Title XVII (1998), mandates that agencies give citizens the option to submit information and conduct transactions with the agency electronically, when practicable, by October 2003. The Electronic Freedom of Information Act (E-FOIA), Amendments of 1996, 5 U.S.C. 552(a), require agencies to ensure the electronic availability of the agency-created records that must be available for public inspection and copying, through on-line access where possible, or by other electronic means, and that agencies provide an electronic copy of the information if readily reproducible electronically when requested in that format. Other mandates require agencies to consider revising their operations or procedures to maximize the use of today's electronic technology.

EPA initiated the development of an electronic public docket system after a 1996 survey of docket customers revealed the desire of docket customers to have electronic access to docket materials and the ability to search across all of the EPA dockets for information. Initiated prior to the online rulemaking initiative included in the President's Management Agenda for E-gov, and before the enactment of the electronic access mandates, today's announcement of the EPA Dockets demonstrates EPA's commitment to ensuring that the public has access to the information that is used to inform the Agency's decisions regarding potential risks to the environment and public health, and that the public has an opportunity to participate in the Agency's decision process. By providing online access to EPA's public dockets, and an online mechanism for the submission of public comments, EPA is advancing the E-Government Strategy, as well as satisfying the mandate under GPEA.

II. EPA's New Electronic Docket

The following is a brief introduction to EPA Dockets, along with an overview of EPA's policies related to the implementation of the system.

A. What is a Docket?

The official docket serves as the repository for the collection of documents or information related to a particular agency action or activity. The official docket generally consists of the documents specifically referenced in the Federal Register document, any public comments received, and other information used by decision-makers, or otherwise related to the Agency action or activity. Agencies most commonly use dockets for rulemaking actions, but dockets may also be used for various other non-rulemaking activities, such as Federal Register documents seeking public comments on draft guidance, policy statements, information collection requests under the Paperwork Reduction Act, and other non-rule activities.

The public docket is the collection of materials in the official docket that is available for public inspection and copying. Although a part of the official docket for an action or activity, the public docket does not include Confidential Business Information (CBI) or other information whose public disclosure is restricted by statute.

The Agency will continue to maintain the official docket in paper form at the EPA docket facilities established for the particular program or office, where the public docket will be made available for public inspection and copying. The public can continue to view the public dockets at the facility, as well as request a copy of the docket's index or a copy of a listed publicly available document(s).

B. What is EPA Dockets?

The EPA Dockets, known during the development and pilot stages as the Regulatory Public Access System (RPAS), is an online system that provides electronic access to EPA's public dockets. During the development of EPA Dockets, the system was initially intended to enhance public access to rulemaking information, so most of the public dockets that are currently available in EPA Dockets will be rulemaking dockets. However, since EPA Dockets provides an effective and efficient mechanism for the public to access electronic records and submit electronic comments, you will also notice that EPA Dockets provides electronic access to other non-rulemaking dockets. The type of docket (i.e., rulemaking docket or general docket) is clearly identified within the system. In addition, when the Agency issues a Federal Register document after today, it will specifically identify in that Federal Register document whether a docket has been established, and whether the public docket has been included in EPA Dockets, and it will identify the specific identification number assigned to that docket.

1. Which Dockets Facilities are Using EPA Dockets? EPA Dockets is being phased-in across the Agency, starting with the following four Headquarter offices: The Office of Solid Waste and Emergency Response (OSWER), the Office of Air and Radiation (OAR), the Office of Water (OW), and the Office of Prevention, Pesticides, and Toxic Substances (OPPTS). Participation is expected to be expanded to include other EPA Headquarter offices, with the Office of Environmental Information (OEI), and the Office of Enforcement and Compliance Assurance (OECA) slated to implement the system for their dockets in the Fall of 2002.

Since the Agency is phasing-in the implementation of EPA Dockets, you will notice that not all Federal Register documents with a docket that publish after today will be included in EPA Dockets. For those offices that are already using EPA Dockets, this will occur because the docket related to that Federal Register document was already established prior to the implementation of EPA Dockets, and is therefore not available in EPA Dockets. Federal Register documents with a docket that are issued by EPA offices that have not yet implemented EPA Dockets will be included in EPA Dockets at a later date, when the system is implemented by their docket facility.

In addition, EPA Dockets will provide online public access to several legacy public dockets, i.e., dockets that were originally created in paper, including dockets that were transferred to EPA Dockets from an existing electronic docket system, as well as dockets that were entered into EPA Dockets during the pilot and initial implementation stages.

As of May 31, 2002, the following docket facilities will use EPA Dockets to establish the public docket, index the docket contents, and, to the extent feasible, provide the electronic version of publicly available docket materials:

Air Docket; telephone number: (202) 260-7549; e-mail address: a-and-r-Docket@epa.gov

Pesticides Docket; telephone number: (703) 305-5805; e-mail address: opp-docket@epa.gov

RCRA Docket; telephone number: (703) 603-9230; e-mail address: rcra-docket@epa.gov

Superfund Docket; telephone number: (703) 603-9232; e-mail address: superfunddocket@epa.gov

Toxics Docket; telephone number: (202) 260-7099; e-mail address: oppt- ncic@epamail.epa.gov

UST Docket; telephone number: (703) 603-9230; e-mail address: rcra-docket@epa.gov

Water Docket; telephone number: (202) 260-3027; e-mail address: OW-Docket@epa.gov

The following docket facilities are preparing to implement EPA Dockets later this year:

OEI Docket; telephone number: (202) 566-1677.

OECA Docket; telephone number: (202) 564-2614; e-mail address: oeca.docket@epa.gov

EPA will consolidate all the Headquarter paper docket facilities into a “Combined Docket Facility” in August of 2002. This new facility will continue to be located in Washington, DC, and will provide state-of-the-art technology, security, and comfort to and for the public docket user community. Prior to the opening of the “Combined Docket Facility,” EPA will publish a notice in the Federal Register announcing the facility's contact information. This information will also be posted on the EPA website at http://www.epa.gov/epahome/dockets.htm. If you have questions about a particular docket, please contact the appropriate docket facility directly.

2. What Docket Materials will be Accessible Through EPA Dockets? The content of EPA Dockets will generally mirror that of the public docket, with a few exceptions. Since the public docket does not include CBI or other information whose public disclosure is restricted by statute, the EPA Dockets will not include any of this information. Although included in the paper public docket, EPA has determined that the following material will not be included in EPA Dockets:

• Material subject to copyright protection.

• Audio and video materials.

• Oversized printed materials (e.g., greater than 11″ x 14″).

• Other physical, three dimensional items.

In addition, since the paper docket currently remains the official docket, EPA Dockets may not contain electronic copies of all of the materials that are available in the paper public docket. For example, if EPA only has access to a paper copy of a document that is included in the official docket, EPA intends to scan and create an electronic copy of that document so that it can also be accessed in EPA Dockets. At times, however, the Agency may not be able to complete this conversion for all of the materials in the paper public docket. Eventually, however, EPA intends to provide electronic access to all of the publicly available docket materials through EPA Dockets, and will be working to designate EPA Dockets as the official public docket.

With regard to public comments, EPA will continue to place all public comments in the public docket as EPA receives them and without change. For those comments that contain CBI, or other information whose disclosure is restricted by statute, EPA will continue to ask the commenter to provide a non-CBI version of the comment for inclusion in the public docket.

For EPA Dockets, EPA's policy is that public comments will be made available for public viewing in EPA Dockets, as EPA receives them and without change, unless the comment contains copyrighted material, CBI, or other information whose disclosure is restricted by statute. When EPA identifies a comment containing copyrighted material, EPA will provide a reference to that material in the version of the comment that is placed in EPA Dockets. The entire printed comment, including the copyrighted material, will be available in the paper public docket.

Public comments submitted on computer disks that are mailed or delivered to the docket will be transferred to EPA Dockets. Public comments that are mailed or delivered in paper form to the docket facility will be scanned and placed in EPA Dockets. Where practical, physical objects will be photographed, and the photograph will be placed in EPA's electronic public docket along with a brief description written by the docket staff.

When a document is selected from the index list in EPA Dockets, the system will identify whether the document is available for viewing in EPA Dockets. Although not all docket materials may be available electronically, you may still access paper copies of any of the publicly available docket materials through the docket facility identified in the Federal Register document.

3. How Can I Access and Use EPA Dockets? You may access EPA Dockets on the Internet at http://www.epa.gov/edocket. You may use EPA Dockets to access available public docket materials online, as well as submit electronic comments to EPA during the open comment period for a particular docket available in EPA Dockets. To search for an available public docket or to search for a particular docket material, the system provides two basic methods of searching to retrieve dockets and docket materials that are available in the system: “Quick Search” to search using a full-text search engine, or through an “Advanced Search,” which displays various indexed fields such as the docket name, docket identification number, phase of the action, initiating office, date of issuance, document title, document identification number, type of document, Federal Register reference, CFR citation, etc. Each data field in the advanced search may be searched independently or in combination with other fields, as desired. Each search yields a simultaneous display of all available information found in EPA Dockets that is relevant to the requested subject or topic.

You may also use EPA Dockets to submit your comments online when a particular docket available in EPA Dockets is open for public comments. The Federal Register document will identify whether a docket has been established in EPA Dockets, and will provide detailed instructions identifying the various methods that can be used to submit public comments to EPA.

If the docket for the Federal Register document was established prior to May 31, 2002, it may not identify EPA Dockets as an available method for submitting electronic comments on that Federal Register document. In such cases, if you do not find that public docket in EPA Dockets, you will not be able to use EPA Dockets to submit electronic comments to that particular docket, and you will need to follow the instructions in that Federal Register document for submitting your comments to EPA. If that public docket is nonetheless available in the system, EPA encourages you to use the system to submit your electronic comments. If the Federal Register document does not discuss EPA Dockets, only those comments submitted through EPA Dockets will be available in their entirety for online viewing in EPA Dockets.

Your use of EPA Dockets to submit comments to EPA electronically is EPA's preferred method for receiving comments. The system is an “anonymous access” system, which means EPA will not know your identity, e-mail address, or other contact information unless you provide it in the body of your comment. EPA recommends that you include your name, mailing address, and an e-mail address or other contact information in the body of your comment to ensure that you can be identified as the submitter of the comment, and it allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

You should continue to ensure that your comments are submitted within the specified open comment period. Comments received after the close of the comment period will be marked “late.” EPA is not required to consider these late comments in formulating a final decision.

III. Additional Information

Additional details about EPA Dockets, as well as detailed instructions and assistance for using the system, is available online. Be sure to use the feedback function to let us know about your experiences using the system. We will use that feedback to help us identify potential improvements that would better service your needs. You may also contact the person listed under FOR FURTHER INFORMATION CONTACT.

List of Subjects

Environmental protection, Docket, Electronic, Public comment, Records.

Dated: May 22, 2002.
Mark A. Luttner,
Director of Information Collection, Office of Environmental Information.

[FR Doc. 02-13521 Filed 5-30-02; 8:45 am]

BILLING CODE 6560-50-S